DEPARTMENT OF COMMERCE

National Oceanic and Atmospheric Administration

RIN 0648-XD127

Marine Mammals; File No. 18002

AGENCY: National Marine Fisheries Service (NMFS), National Oceanic and Atmospheric Administration (NOAA), Commerce.

ACTION: Notice; issuance of permit.

SUMMARY: Notice is hereby given that a permit has been issued to Alejandro Acevedo-Gutiérrez, Ph.D. of Western Washington University's Department of Biology, 516 High Street, Bellingham, WA 98225, to conduct research on harbor seals (Phoca vitulina).

ADDRESSES: The permit and related documents are available for review upon written request or by appointment in the Permits and Conservation Division, Office of Protected Resources, NMFS, 1315 East-West Highway, Room 13705, Silver Spring, MD 20910; phone (301)427-8401; fax (301)713-0376.

FOR FURTHER INFORMATION CONTACT: Courtney Smith or Amy Sloan, (301)427-8401.

SUPPLEMENTARY INFORMATION: On February 14, 2014 notice was published in the Federal Register (79 FR 8941) that a request for a permit to conduct research on the species identified above had been submitted by the above-named applicant. The requested permit has been issued under the authority of the Marine Mammal Protection Act of 1972, as amended (16 U.S.C. 1361 et seq.), the regulations governing the taking and importing of marine mammals (50 CFR part 216).

Permit No. 18002 authorizes non-invasive research techniques including scat collection and a small unmanned aerial system (sUAS) to determine the level of individual diet specializations (prey consumption) amongst harbor seals within the Salish Sea area of Washington State. Annually, researchers may take (incidentally harass) 57,600 harbor seals during ground surveys for scat collection and 12,800 harbor seals during aerial (sUAS) surveys for counts of seals at haul-out sites. Additionally, the permit authorizes the unintentional mortality of 4 individuals during ground surveys over the life of the permit.

In compliance with the National Environmental Policy Act of 1969 (42 U.S.C. 4321 et seq.), a final determination has been made that the activity proposed is categorically excluded from the requirement to prepare an environmental assessment or environmental impact statement.

Dated: August 26, 2014.
Julia Harrison,
Chief, Permits and Conservation Division, Office of Protected Resources, National Marine Fisheries Service.

[FR Doc. 2014-20582 Filed 8-28-14; 8:45 am]

BILLING CODE 3510-22-P